CIVIL RIGHTS COLD CASE RECORDS REVIEW BOARD

[Agency Docket Number: CRCCRRB-2025-0012-N]

Notice of Formal Determination on Records Release

AGENCY: Civil Rights Cold Case Records Review Board.

ACTION: Notice.

SUMMARY: The Civil Rights Cold Case Records Review Board received 212 pages of records from the National Archives and Records Administration (NARA), the Department of Justice, and the Federal Bureau of Investigation (FBI) related to a civil rights cold case incident to which the Review Board assigned the unique identifier 2023-001-002. NARA did not propose any postponements of disclosure. The Department of Justice and the FBI proposed 471 postponements of disclosure. The Department of Justice later withdrew two postponements it proposed. On March 28, 2025, the Review Board met and approved 186 postponements, requested changes to 26 postponements, and determined that 168 pages in full and 44 pages in part should be publicly disclosed in the Civil Rights Cold Case Records Collection. By issuing this notice, the Review Board complies with section 7(c)(4) of the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Postponement identifier | Review board decision
2023-001-002 | 2024-DOJ-01-0001 | Approve with changes.
2023-001-002 | 2024-DOJ-01-0002 and 2024-DOJ-01-0003 | Approve.
2023-001-002 | 2024-DOJ-01-0004 through 2024-DOJ-01-0006 | Reject.
2023-001-002 | 2024-DOJ-01-0007 | Approve.
2023-001-002 | 2024-DOJ-01-0008 through 2024-DOJ-01-0011 | Reject.
2023-001-002 | 2024-DOJ-01-0012 through 2024-DOJ-01-0014 | Approve.
2023-001-002 | 2024-DOJ-01-0015 | Approve with changes.
2023-001-002 | 2024-DOJ-01-0016 | Approve.
2023-001-002 | 2024-DOJ-01-0017 and 2024-DOJ-01-0018 | Withdrawn by agency.
2023-001-002 | 2024-DOJ-01-0019 through 2024-DOJ-01-0021 | Approve.
2023-001-002 | 2024-DOJ-01-0022 and 2024-DOJ-01-0023 | Reject.
2023-001-002 | 2024-FBI-01-0001 and 2024-FBI-01-0002 | Reject.
2023-001-002 | 2024-FBI-01-0003 and 2024-FBI-01-0004 | Approve.
2023-001-002 | 2024-FBI-01-0005 and 2024-FBI-01-0006 | Reject.
2023-001-002 | 2024-FBI-01-0007 through 2024-FBI-01-0011 | Approve.
2023-001-002 | 2024-FBI-01-0012 | Approve with changes.
2023-001-002 | 2024-FBI-01-0013 | Reject.
2023-001-002 | 2024-FBI-01-0014 through 2024-FBI-01-0017 | Approve.
2023-001-002 | 2024-FBI-01-0018 | Reject.
2023-001-002 | 2024-FBI-01-0019 through 2024-FBI-01-0028 | Approve.
2023-001-002 | 2024-FBI-01-0029 | Reject.
2023-001-002 | 2024-FBI-01-0030 | Approve.
2023-001-002 | 2024-FBI-01-0031 | Approve with changes.
2023-001-002 | 2024-FBI-01-0032 through 2024-FBI-01-0035 | Approve.
2023-001-002 | 2024-FBI-01-0036 | Approve with changes.
2023-001-002 | 2024-FBI-01-0037 | Approve.
2023-001-002 | 2024-FBI-01-0038 | Approve with changes.
2023-001-002 | 2024-FBI-01-0039 and 2024-FBI-01-0040 | Approve.
2023-001-002 | 2024-FBI-01-0041 | Approve with changes.
2023-001-002 | 2024-FBI-01-0042 | Approve.
2023-001-002 | 2024-FBI-01-0043 | Approve with changes.
2023-001-002 | 2024-FBI-01-0044 through 2024-FBI-01-0046 | Approve.
2023-001-002 | 2024-FBI-01-0047 through 2024-FBI-01-0051 | Reject.
2023-001-002 | 2024-FBI-01-0052 | Approve.
2023-001-002 | 2024-FBI-01-0053 through 2024-FBI-01-0056 | Reject.
2023-001-002 | 2024-FBI-01-0057 through 2024-FBI-01-0060 | Approve.
2023-001-002 | 2024-FBI-01-0061 | Reject.
2023-001-002 | 2024-FBI-01-0062 through 2024-FBI-01-0071 | Approve.
2023-001-002 | 2024-FBI-01-0072 | Reject.
2023-001-002 | 2024-FBI-01-0073 | Approve.
2023-001-002 | 2024-FBI-01-0074 | Approve with changes.
2023-001-002 | 2024-FBI-01-0075 through 2024-FBI-01-0086 | Reject.
2023-001-002 | 2024-FBI-01-0087 | Approve.
2023-001-002 | 2024-FBI-01-0088 through 2024-FBI-01-0105 | Reject.
2023-001-002 | 2024-FBI-01-0106 | Approve.
2023-001-002 | 2024-FBI-01-0107 through 2024-FBI-01-0110 | Reject.
2023-001-002 | 2024-FBI-01-0111 through 2024-FBI-01-0114 | Approve.
2023-001-002 | 2024-FBI-01-0115 | Reject.
2023-001-002 | 2024-FBI-01-0116 through 2024-FBI-01-0124 | Approve.
2023-001-002 | 2024-FBI-01-0125 | Reject.
2023-001-002 | 2024-FBI-01-0126 | Approve with changes.
2023-001-002 | 2024-FBI-01-0127 | Approve.
2023-001-002 | 2024-FBI-01-0128 through 2024-FBI-01-0140 | Reject.
2023-001-002 | 2024-FBI-01-0141 | Approve.
2023-001-002 | 2024-FBI-01-0142 through 2024-FBI-01-0181 | Reject.
2023-001-002 | 2024-FBI-01-0182 through 2024-FBI-01-0209 | Reject.
2023-001-002 | 2024-FBI-01-0210 | Approve.
2023-001-002 | 2024-FBI-01-0211 through 2024-FBI-01-0217 | Reject.
2023-001-002 | 2024-FBI-01-0218 | Approve.
2023-001-002 | 2024-FBI-01-0219 and 2024-FBI-01-0220 | Reject.
2023-001-002 | 2024-FBI-01-0221 and 2024-FBI-01-0222 | Approve.
2023-001-002 | 2024-FBI-01-0223 and 2024-FBI-01-0224 | Reject.
2023-001-002 | 2024-FBI-01-0225 | Approve with changes.
2023-001-002 | 2024-FBI-01-0226 and 2024-FBI-01-0227 | Approve.
2023-001-002 | 2024-FBI-01-0228 | Reject.
2023-001-002 | 2024-FBI-01-0229 | Approve with changes.
2023-001-002 | 2024-FBI-01-0230 through 2024-FBI-01-0232 | Approve.
2023-001-002 | 2024-FBI-01-0233 | Approve with changes.
2023-001-002 | 2024-FBI-01-0234 through 2024-FBI-01-0237 | Approve.
2023-001-002 | 2024-FBI-01-0238 | Approve with changes.
2023-001-002 | 2024-FBI-01-0239 and 2024-FBI-01-0240 | Approve.
2023-001-002 | 2024-FBI-01-0241 | Reject.
2023-001-002 | 2024-FBI-01-0242 and 2024-FBI-01-0243 | Approve with changes.
2023-001-002 | 2024-FBI-01-0244 and 2024-FBI-01-0245 | Approve.
2023-001-002 | 2024-FBI-01-0246 and 2024-FBI-01-0247 | Reject.
2023-001-002 | 2024-FBI-01-0248 | Approve with changes.
2023-001-002 | 2024-FBI-01-0249 through 2024-FBI-01-0251 | Approve.
2023-001-002 | 2024-FBI-01-0252 | Approve with changes.
2023-001-002 | 2024-FBI-01-0253 through 2024-FBI-01-0256 | Approve.
2023-001-002 | 2024-FBI-01-0257 and 2024-FBI-01-0258 | Reject.
2023-001-002 | 2024-FBI-01-0259 | Approve with changes.
2023-001-002 | 2024-FBI-01-0260 and 2024-FBI-01-0261 | Approve.
2023-001-002 | 2024-FBI-01-0262 and 2024-FBI-01-0263 | Reject.
2023-001-002 | 2024-FBI-01-0264 | Approve with changes.
2023-001-002 | 2024-FBI-01-0265 through 2024-FBI-01-0267 | Approve.
2023-001-002 | 2024-FBI-01-0268 and 2024-FBI-01-0269 | Reject.
2023-001-002 | 2024-FBI-01-0270 | Approve with changes.
2023-001-002 | 2024-FBI-01-0271 | Approve.
2023-001-002 | 2024-FBI-01-0272 | Reject.
2023-001-002 | 2024-FBI-01-0273 | Approve.
2023-001-002 | 2024-FBI-01-0274 through 2024-FBI-01-0280 | Reject.
2023-001-002 | 2024-FBI-01-0281 | Approve.
2023-001-002 | 2024-FBI-01-0282 and 2024-FBI-01-0283 | Reject.
2023-001-002 | 2024-FBI-01-0284 and 2024-FBI-01-0285 | Approve.
2023-001-002 | 2024-FBI-01-0286 and 2024-FBI-01-0287 | Reject.
2023-001-002 | 2024-FBI-01-0288 | Approve with changes.
2023-001-002 | 2024-FBI-01-0289 and 2024-FBI-01-0290 | Approve.
2023-001-002 | 2024-FBI-01-0291 and 2024-FBI-01-0292 | Reject.
2023-001-002 | 2024-FBI-01-0293 | Approve with changes.
2023-001-002 | 2024-FBI-01-0294 through 2024-FBI-01-0297 | Approve.
2023-001-002 | 2024-FBI-01-0298 and 2024-FBI-01-0299 | Approve with changes.
2023-001-002 | 2024-FBI-01-0300 through 2024-FBI-01-0302 | Approve.
2023-001-002 | 2024-FBI-01-0303 | Approve with changes.
2023-001-002 | 2024-FBI-01-0304 and 2024-FBI-01-0305 | Approve.
2023-001-002 | 2024-FBI-01-0306 and 2024-FBI-01-0307 | Reject.
2023-001-002 | 2024-FBI-01-0308 through 2024-FBI-01-0311 | Approve.
2023-001-002 | 2024-FBI-01-0312 and 2024-FBI-01-0313 | Reject.
2023-001-002 | 2024-FBI-01-0314 | Approve.
2023-001-002 | 2024-FBI-01-0315 | Approve with changes.
2023-001-002 | 2024-FBI-01-0316 through 2024-FBI-01-0319 | Approve.
2023-001-002 | 2024-FBI-01-0320 and 2024-FBI-01-0321 | Reject.
2023-001-002 | 2024-FBI-01-0322 through 2024-FBI-01-0325 | Approve.
2023-001-002 | 2024-FBI-01-0326 and 2024-FBI-01-0327 | Reject.
2023-001-002 | 2024-FBI-01-0328 | Approve.
2023-001-002 | 2024-FBI-01-0329 | Reject.
2023-001-002 | 2024-FBI-01-0330 and 2024-FBI-01-0331 | Approve.
2023-001-002 | 2024-FBI-01-0332 and 2024-FBI-01-0333 | Reject.
2023-001-002 | 2024-FBI-01-0334 | Approve.
2023-001-002 | 2024-FBI-01-0335 | Reject.
2023-001-002 | 2024-FBI-01-0336 through 2024-FBI-01-0338 | Approve.
2023-001-002 | 2024-FBI-01-0339 and 2024-FBI-01-0340 | Reject.
2023-001-002 | 2024-FBI-01-0341 | Approve.
2023-001-002 | 2024-FBI-01-0342 | Reject.
2023-001-002 | 2024-FBI-01-0343 | Approve.
2023-001-002 | 2024-FBI-01-0344 through 2024-FBI-01-0346 | Reject.
2023-001-002 | 2024-FBI-01-0347 | Approve.
2023-001-002 | 2024-FBI-01-0348 through 2024-FBI-01-0351 | Reject.
2023-001-002 | 2024-FBI-01-0352 | Approve.
2023-001-002 | 2024-FBI-01-0353 and 2024-FBI-01-0354 | Reject.
2023-001-002 | 2024-FBI-01-0355 | Approve.
2023-001-002 | 2024-FBI-01-0356 | Approve with changes.
2023-001-002 | 2024-FBI-01-0357 | Approve.
2023-001-002 | 2024-FBI-01-0358 | Reject.
2023-001-002 | 2024-FBI-01-0359 and 2024-FBI-01-0360 | Approve.
2023-001-002 | 2024-FBI-01-0361 and 2024-FBI-01-0362 | Reject.
2023-001-002 | 2024-FBI-01-0363 | Approve.
2023-001-002 | 2024-FBI-01-0364 through 2024-FBI-01-0368 | Reject.
2023-001-002 | 2024-FBI-01-0369 | Approve.
2023-001-002 | 2024-FBI-01-0370 through 2024-FBI-01-0379 | Reject.
2023-001-002 | 2024-FBI-01-0380 through 2024-FBI-01-0383 | Approve.
2023-001-002 | 2024-FBI-01-0384 | Reject.
2023-001-002 | 2024-FBI-01-0385 through 2024-FBI-01-0394 | Approve.
2023-001-002 | 2024-FBI-01-0395 | Reject.
2023-001-002 | 2024-FBI-01-0396 | Approve.
2023-001-002 | 2024-FBI-01-0397 | Approve with changes.
2023-001-002 | 2024-FBI-01-0398 | Approve.
2023-001-002 | 2024-FBI-01-0399 through 2024-FBI-01-0411 | Reject.
2023-001-002 | 2024-FBI-01-0412 | Approve.
2023-001-002 | 2024-FBI-01-0413 through 2024-FBI-01-0422 | Reject.
2023-001-002 | 2024-FBI-01-0423 | Approve.
2023-001-002 | 2024-FBI-01-0424 through 2024-FBI-01-0426 | Reject.
2023-001-002 | 2024-FBI-01-0427 | Approve.
2023-001-002 | 2024-FBI-01-0428 and 2024-FBI-01-0429 | Reject.
2023-001-002 | 2024-FBI-01-0430 | Approve.
2023-001-002 | 2024-FBI-01-0431 through 2024-FBI-01-0435 | Reject.
2023-001-002 | 2024-FBI-01-0436 and 2024-FBI-01-0437 | Approve.
2023-001-002 | 2024-FBI-01-0438 | Reject.
2023-001-002 | 2024-FBI-01-0439 through 2024-FBI-01-0444 | Approve.
2023-001-002 | 2024-FBI-01-0445 | Reject.
2023-001-002 | 2024-FBI-01-0446 and 2024-FBI-01-0447 | Approve.
2023-001-002 | 2024-FBI-01-0448 | Reject.

Authority: Pub. L. 115-426, 132 Stat. 5489 (44 U.S.C. 2107).

Dated: April 4, 2025.
Stephannie Oriabure,
Chief of Staff.

[FR Doc. 2025-06108 Filed 4-9-25; 8:45 am]

BILLING CODE 6820-SY-P